DEPARTMENT OF THE INTERIOR

Bureau of Land Management

[MT-06417-1430-ET; MTM 40614]

Public Land Order No. 7611; Partial Revocation of Bureau of Land Management Order Dated March 30, 1950; Montana

AGENCY: Bureau of Land Management, Interior.

ACTION: Public Land Order.

SUMMARY: This order partially revokes a Bureau of Land Management Order insofar as it affects 40 acres of public land withdrawn for the Bureau of Reclamation's Lower Marias River Reclamation Project. The land is no longer needed for reclamation purposes.

EFFECTIVE DATE: September 13, 2004.

FOR FURTHER INFORMATION CONTACT: Brandi Hecker, BLM Havre Field Station, P.O. Box 911, Havre, Montana 59501, 406-262-2829 or Sandra Ward, BLM Montana State Office, P.O. Box 36800, Billings, Montana 59107-6800, 406-896-5052.

SUPPLEMENTARY INFORMATION: The Bureau of Reclamation has determined that a withdrawal is no longer needed on the land described in this order and has requested a partial revocation. The land will not be opened to surface entry and non-metalliferous mining until completion of a planning review and analysis to determine the best use of the land for management of natural resources and future land adjustment actions.

Order

By virtue of the authority vested in the Secretary of the Interior by Section 204 of the Federal Land Policy and Management Act of 1976, 43 U.S.C. 1714 (2000), it is ordered as follows:

The Bureau of Land Management Order dated March 30, 1950, which withdrew public land for the Bureau of Reclamation's Lower Marias River Reclamation Project, is hereby revoked insofar as it affects the following described land:

Principal Meridian, Montana

T. 29 N., R 9 E.,

sec. 31, NW¼SE¼.

The area described contains 40 acres in Chouteau County.

Dated: August 2, 2004.
Rebecca W. Watson,
Assistant Secretary—Land and Minerals Management.

[FR Doc. 04-18570 Filed 8-12-04; 8:45 am]

BILLING CODE 4310-DN-P